DEPARTMENT OF AGRICULTURE

Forest Service

Directive Publication Notice

AGENCY: Forest Service, Agriculture (USDA).

ACTION: Notice.

SUMMARY: The Forest Service, U.S. Department of Agriculture, provides direction to employees through issuances in its Directive System, comprised of the Forest Service Manual and Forest Service Handbooks. The Agency must provide public notice of and opportunity to comment on any directives that formulate standards, criteria, or guidelines applicable to Forest Service programs. Once per quarter, the Agency provides advance notice of proposed and interim directives that will be made available for public comment during the next three months and notice of final directives issued in the last three months.

DATES: This notice identifies proposed and interim directives that will be published for public comment between January 1, 2022, and March 31, 2022; proposed and interim directives that were previously published for public comment but not yet finalized and issued; and final directives that have been issued since October 1, 2021.

ADDRESSES: Questions or comments may be provided by email to SM.FS.Directives@usda.gov or in writing to 201 14th Street SW, Washington, DC 20250, Attn: Directives and Regulations staff, Mailstop 1132.

FOR FURTHER INFORMATION CONTACT: Ann Goode at 202-740-6286 or ann.goode@usda.gov.

Individuals who use telecommunications devices for the deaf or hard of hearing (TDD) may call the Federal Relay Service (FRS) at 800-877-8339 24 hours a day, every day of the year, including holidays.

You may register to receive email alerts at https://www.fs.usda.gov/about-agency/regulations-policies.

SUPPLEMENTARY INFORMATION:

Proposed and Interim Directives

Consistent with 16 U.S.C. 1612(a) and 36 CFR part 216, Public Notice and Comment for Standards, Criteria and Guidance Applicable to Forest Service Programs, the Forest Service publishes for public comment Agency directives that formulate standards, criteria, and guidelines applicable to Forest Service programs. Agency procedures for providing public notice and opportunity to comment are specified in Forest Service Handbook (FSH) 1109.12, Chapter 30, Providing Public Notice and Opportunity to Comment on Directives.

The following proposed directive is planned for publication for public comment from January 1, 2022, to March 31, 2022:

Forest Service Manual (FSM) 2300, Chapter 55—Climbing Management

The primary method of public outreach for this proposed directive is publication on the Forest Service website at https://www.fs.usda.gov/about-agency/regulations-policies, publication in the Federal Register, use of the GovDelivery email service, and other Agency communications resources, which may include a press release, blog post, or social media.

Previously Published Directives That Have Not Been Finalized

The following proposed and interim directives have been published for public comment but have not yet been finalized:

1. FSM 2200, Rangeland Management, Chapters Zero Code; 2210, Rangeland Management Planning; 2220, Management of Rangelands (Reserved); 2230, Grazing Permit System; 2240, Rangeland Improvements; 2250, Rangeland Management Cooperation; and 2270, Information Management and Reports; FSH 2209.13, Grazing Permit Administration Handbook, Chapters 10, Term Grazing Permits; 20, Grazing Agreements; 30, Temporary Grazing and Livestock Use Permits; 40, Livestock Use Permits; 50, Tribal Treaty Authorizations and Special Use Permits; 60, Records; 70, Compensation for Permittee Interests in Rangeland Improvements; 80, Grazing Fees; and 90, Rangeland Management Decision Making; and Forest Service Handbook 2209.16, Allotment Management Handbook, Chapter 10, Allotment Management and Administration.

2. Interim FSM 2719, Special Use Authorizations Involving Storage and Use of Explosives and Magazine Security, and FSH 2709.11, Special Uses Handbook, Chapter 50, Standard Forms and Supplemental Clauses.

3. FSM 7700, Travel Management, Chapters Zero and 10, Travel Planning.

4. FSM 3800, Landscape Scale Restoration Program.

5. FSM 2700, Special Uses Management, Chapter 40, Vegetation Management Pilot Projects, and FSH 2709.11, Special Uses Handbook, Chapter 50, Standard Forms and Supplemental Clauses.

6. FSH 2709.11, Special Uses Handbook, Chapter 80, Operating Plans and Agreements for Powerline Facilities.

7. FSM 2400, Timber Management, Chapter 2420, Timber Appraisal; FSH 2409.19, Renewable Resources Handbook, Chapters 10, Knutson-Vandenberg Sale Area Program Management Handbook; 20, Knutson-Vandenberg Forest and Regional Program Management; 60, Stewardship Contracting; and 80, Good Neighbor Authority.

8. Region 10 Supplement to FSM 2720, Special Uses; Management of Strictly Point-To-Point Commercial Transportation Under Special Use Authorization to National Forest System Lands within the Visitor Center Subunit of Mendenhall Glacier Recreation Area.

Final Directives That Have Been Issued Since October 1, 2021

1. FSM 2400, Timber Management, Chapters Zero, 2430, Commercial Timber Sales; 2440, Designating, Cruising, Scaling, and Accountability; 2450, Timber Sale Contract Administration; and 2460, Uses of Timber Other Than Commercial Timber Sales; FSH 2409.15, Timber Sale Administration, Chapters Zero, 10, Fundamentals of Timber Sale Contracting; 30, Change in Status of Contracts; 50, Specified Transportation Facilities; and 70, Contract Claims and Disputes; FSH 2409.18a, Timber Sale Debarment and Suspension Procedures, Chapters Zero, 10, Non-procurement Debarment and Suspension; and 20, Debarment and Export Violations. Fifty-five FSM and FSH chapters were identified for revision in the Forest Products Modernization initiative, a strategic effort to align Agency culture, policies, and procedures with current and future forest restoration needs, that increase the pace and scale of restoration, improve forest conditions and the efficiency of forest products delivery. The chapters were divided into three batches to address the large quantity of documents. The first batch includes these 13 directives which have been revised to better align with current legislation, policies, and practices. Many of these directives had not been updated since the 1990s. These 13 directives, all subject to public comment, were designated as non-significant by the Office of Management and Budget. The 30-day comment period for these directives began October 15, 2020, and closed November 15, 2020. A total of 269 comments were received and can be viewed at https://cara.ecosystem-management.org/Public/ReadingRoom?project=ORMS-2688. The final directives were issued October 29, 2021, and can be viewed at the following websites:

https://www.fs.fed.us/im/directives/fsm/2400/wo_2400_Amend%202021-1-508.docx.

https://www.fs.fed.us/im/directives/fsm/2400/wo_2430_Amend%202021-2-508.docx.

https://www.fs.fed.us/im/directives/fsm/2400/wo_2440_Amend%202021-3-508.docx.

https://www.fs.fed.us/im/directives/fsm/2400/wo_2450_Amend%202021-4-508.docx.

https://www.fs.fed.us/im/directives/fsm/2400/wo_2460_Amend%202021-5-508.docx.

https://www.fs.fed.us/im/directives/fsh/2409.15/wo_2409.15_Zero_Amend%202021-5-508x.docx.

https://www.fs.fed.us/im/directives/fsh/2409.15/wo_2409.15_10_Amend%202021-1-508.docx.

https://www.fs.fed.us/im/directives/fsh/2409.15/wo_2409.15_30_Amend%202021-2-508.docx.

https://www.fs.fed.us/im/directives/fsh/2409.15/wo_2409.15_50_Amend%202021-3-508.docx.

https://www.fs.fed.us/im/directives/fsh/2409.15/wo_2409.15_70_Amend%202021-4-508.docx.

https://www.fs.fed.us/im/directives/fsh/2409.18a/wo_2409.18a_0_Amend%202021-1-508.docx.

https://www.fs.fed.us/im/directives/fsh/2409.18a/wo_2409.18a_10_Amend%202021-2-508.docx.

https://www.fs.fed.us/im/directives/fsh/2409.18a/wo_2409.18a_20_Amend%202021-3-508.docx.

2. FSH 5509.11, Chapter 20, Section 21, Small Tracts Act Adjustments. The Forest Service revised this directive to implement the Small Tracts Act, as required by the 2018 Farm Bill. These revisions implement the intent of the 2018 Farm Bill and related regulatory changes that updated land values established in the original Small Tracts Act, which dates to 1983, increasing the value of lands the Agency can sell or exchange to keep up with increasing land values. Proceeds generated from eligible sales made under the Small Tracts Act may be deposited in a Sisk Act account, allowing the Agency to acquire lands that improve the health and productivity of National Forests while simultaneously disposing small, problematic parcels. The 30-day comment period for this directive began June 4, 2021, and closed July 6, 2021. Four comments were received, three from members of the public and one from a State government, which can be viewed at https://cara.ecosystem-management.org/Public/ReadingRoom?project=ORMS-2755. The final directive was issued November 19, 2021, and can be viewed at https://www.fs.fed.us/im/directives/fsh/5509.11/FSH%205509.11,%2020_Amend%202021-1.docx.

3. FSM 1820, Public Lands Corps and Resource Assistants Program. The Forest Service has updated the Public Lands Corps and Resource Assistants Program, which utilizes partnerships to employ America's youth, young adults, emerging professionals, and others in paid work on public lands, research, and natural resources projects. Upon meeting certain requirements, participants achieve eligibility for pathways to federal employment. The proposal reflects changes in legislation and policy and incorporates new requirements, streamlined administration, programming, and reporting, and improves customer service. The 30-day comment period for this directive began June 4, 2021, and closed July 6, 2021. Six comments were received, which can be viewed at https://cara.ecosystem-management.org/Public/ReadingRoom?project=ORMS-2661. The final directive was issued December 7, 2021, and can be viewed at https://www.fs.fed.us/im/directives/fsm/1800/wo_1820_Amend%202021-1.docx.

Dated: January 25, 2022.
Ann Goode,
Branch Chief, Directives and Regulations, Strategic Planning, Budget, & Accountability.

[FR Doc. 2022-01772 Filed 1-27-22; 8:45 am]

BILLING CODE 3411-15-P